DEPARTMENT OF COMMERCE

National Oceanic and Atmospheric Administration

(NOAA) Science Advisory Board (SAB)

AGENCY: Office of Oceanic and Atmospheric Research (OAR), National Oceanic and Atmospheric Administration (NOAA), Department of Commerce (DOC).

ACTION: Notice of open meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Time and Date: The meeting will be held Tuesday, November 30, 2010, from 8:30 a.m. to 5:45 p.m. and Wednesday, December 1, 2010, from 8 a.m. to 3:30 p.m. These times and the agenda topics described below are subject to change. Please refer to the Web page http://www.sab.noaa.gov/Meetings/meetings.html for the most up-to-date meeting agenda.

Place: The meeting will be held both days at Dupont Hotel, 1500 New Hampshire Ave., NW., Washington, DC 20036, Phone: (202) 483 6000.

Please check the SAB Web site http://www.sab.noaa.gov for confirmation of the venue and for directions.

Status: The meeting will be open to public participation with a 30-minute public comment period on November 30 at 5:15 p.m. (check Web site to confirm time). The SAB expects that public statements presented at its meetings will not be repetitive of previously submitted verbal or written statements. In general, each individual or group making a verbal presentation will be limited to a total time of five (5) minutes. Written comments should be received in the SAB Executive Director's Office by November 19, 2010 to provide sufficient time for SAB review. Written comments received by the SAB Executive Director after November 19, 2010, will be distributed to the SAB, but may not be reviewed prior to the meeting date. Seats will be available on a first-come, first-served basis.

Matters to be Considered: The meeting will include the following topics: (1) NOAA Overview, Background and Introduction to the Climate Service, including Responses to the Reviews and Reports from the SAB Climate Working Group; (2) Strategic Framework for the Climate Service; (3) Report on the Climate Service Study by the National Academy of Public Administration; (4) The Plan for NOAA Reorganization to Form the Climate Service and Strengthen Science; (5) The Future of NOAA Oceanic and Atmospheric Research; (6) NOAA Response to the Ecosystem Science and Management Working Group Recommendations on the Ocean Color Satellite Continuity Mitigation Study; (8) NOAA Response to the Ecosystem Sciences and Management Working Group Recommendations on the NOAA Coastal Strategy Initiative; (9) Report on the Review of the Cooperative Institute for Limnology and Ecosystems Research (CILER); (10) NOAA Cooperative Institutes: New CIs and New Models for CIs; (11) NOAA Education Programs: Results of the National Academy of Sciences Report; (12) NOAA Educational Partnership Program Cooperative Science Centers; (13) Update of the SAB Working Group Subcommittee and (14) Updates from SAB Working Groups.

FOR FURTHER INFORMATION CONTACT: Dr. Cynthia Decker, Executive Director, Science Advisory Board, NOAA, Rm. 11230, 1315 East-West Highway, Silver Spring, Maryland 20910. Phone: 301-734-1156, Fax: 301-713-1459, E-mail: Cynthia.Decker@noaa.gov; or visit the NOAA SAB Web site at http://www.sab.noaa.gov.

Dated: November 9, 2010.
Leon M. Cammen,
Acting Chief Financial Officer, Office of Oceanic and Atmospheric Research, National Oceanic and Atmospheric Administration.

[FR Doc. 2010-28594 Filed 11-15-10; 8:45 am]

BILLING CODE 3510-KD-P